DEPARTMENT OF THE TREASURY

Office of Foreign Assets Control

[Docket No.: OFAC-2022-0004]

Agency Information Collection Activities; Proposed Collection; Comment Request for Persons Providing Remittance Forwarding Services to Cuba

AGENCY: Office of Foreign Assets Control, Treasury.

ACTION: Notice and request for comments.

SUMMARY: The Department of the Treasury, as part of its continuing effort to reduce paperwork and respondent burden, invites the general public and other Federal agencies to comment on proposed or continuing information collections, as required by the Paperwork Reduction Act of 1995. Currently, the Office of Foreign Assets Control (OFAC) within the Department of the Treasury is soliciting comments concerning OFAC's information collection requirements for persons using remittance forwarding services related to Cuba, which are contained within the Cuban Assets Control Regulations.

DATES: Written comments must be submitted on or before December 2, 2022 to be assured of consideration.

ADDRESSES: You may submit comments by either of the following methods:

Federal eRulemaking Portal: https://www.regulations.gov. Follow the instructions on the website for submitting comments.

Email: OFACreport@treasury.gov with Attn: Request for Comments (Cuban Remittance Forwarding Services).

Instructions: All submissions received must include the agency name and refer to Docket Number OFAC-2022-0004 and the Office of Management and Budget (OMB) control number 1505-0167. Comments received will be made available to the public via https://www.regulations.gov or upon request, without change and including any personal information provided.

FOR FURTHER INFORMATION CONTACT: OFAC: Assistant Director for Licensing, 202-622-2480; Assistant Director for Regulatory Affairs, 202-622-4855; or Assistant Director for Sanctions Compliance & Evaluation, 202-622-2490.

SUPPLEMENTARY INFORMATION:

Title: Persons Providing Remittance Forwarding Services to Cuba.

OMB Number: 1505-0167.

Type of Review: Extension without change of a currently approved collection.

Description: Requirements to retain records are codified in § 515.572(b) of the Cuban Assets Control Regulations, 31 CFR part 515 (the “Regulations”). Pursuant to 515.572(b)(1), persons subject to U.S. jurisdiction who provide authorized remittance forwarding services related to Cuba are required to maintain for at least five years from the date of the transaction a certification from each customer indicating the section of Regulations or, if relevant, the number of the specific license, that authorizes the person to send the remittance to Cuba. The recordkeeping burden associated with § 515.572(b)(2) is addressed in 1505-0164.

The records covered by this information collection must be provided on request to the U.S. Department of the Treasury and will be used to monitor compliance with regulations governing transactions related to authorized remittances to or from Cuba using remittance forwarding service providers who are persons subject to U.S. jurisdiction.

Forms: Section 515.572(b)(1) does not specify any particular form of recordkeeping.

Affected Public: Individuals, households, businesses, non-governmental organizations and banking institutions. The likely respondents and record-keepers affected by this collection of information are persons using and providing U.S. remittance forwarding services.

Estimated Number of Unique Respondents: Based on newly acquired data and OFAC's revised methodology, the estimated number of annual respondents is 1,500,000.

Estimated Number of Records per Respondent: Based on newly acquired data and OFAC's revised methodology, the estimated number of records is approximately 1.2 records per respondent per year. (Some respondents may produce far more records; 1.2 records per respondent is an average.)

Estimated Total Number of Annual Records: Based on additional data and OFAC's revised methodology, as well as the effects of the pandemic and regulatory changes, the estimated total number of annual records is approximately 1,800,000.

Estimated Time Per Record: OFAC assesses that there is an average time estimate of 1 minute per record.

Estimated Total Annual Burden Hours: The estimated total annual reporting burden is approximately 1,800,000 minutes or approximately 30,000 hours.

Request for Comments

Comments submitted in response to this notice will be summarized and included in the request for OMB approval. All comments will become a matter of public record. Comments are invited on: (a) whether the collection of information is necessary for the proper performance of the functions of the agency, including whether the information has practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services required to provide information.

(Authority: 44 U.S.C. 3501 et seq.)

Andrea Gacki,
Director, Office of Foreign Assets Control.

[FR Doc. 2022-21209 Filed 9-30-22; 8:45 am]

BILLING CODE 4810-AL-P